DEPARTMENT OF DEFENSE

Office of the Secretary

Termination of Department of Defense Federal Advisory Committee

AGENCY: DoD.

ACTION: Termination of Federal Advisory Committee.

SUMMARY: Under the provisions of the Federal Advisory Committee Act of 1972, (5 U.S.C. Appendix), 41 CFR 102-3.55(a)(1), the Government in the Sunshine Act of 1976 (5 U.S.C. 552b), and the Sunset provisions of Section 596 of Public Law 110-417, effective April 1, 2011 the Department of Defense gives notice that it is terminating the Military Leadership Diversity Commission.

FOR FURTHER INFORMATION CONTACT: Jim Freeman, Deputy Advisory Committee Management Officer for the Department of Defense, 703-601-6128.

Dated: March 23, 2011.
Morgan F. Park,
Alternate OSD Federal Register Liaison Officer, Department of Defense.

[FR Doc. 2011-7696 Filed 3-31-11; 8:45 am]

BILLING CODE 5001-06-P